DEPARTMENT OF TRANSPORTATION

Federal Highway Administration

Federal Transit Administration

Designation of Transportation Management Areas

AGENCY: Federal Highway Administration (FHWA), Federal Transit Administration (FTA), Department of Transportation.

ACTION: Notice.

SUMMARY: On December 29, 2022, the United States Census Bureau published a notice in the Federal Register announcing the qualifying urban areas from the 2020 Census. The FTA and FHWA are announcing that all urbanized areas (UZA) with populations greater than 200,000, as determined by the 2020 Census, are hereby identified as Transportation Management Areas (TMA). The FTA and FHWA are taking this action in compliance with the agencies' authorizing statutes. This action supersedes the agencies' previous designations of TMAs made in the Federal Register.

DATES: This notice is effective June 5, 2023.

FOR FURTHER INFORMATION CONTACT: For FTA related questions, please contact Fleming El-Amin, Office of Planning (TPE-10), (202) 493-0316, or via email at fleming.el-amin@dot.gov, or Mark Montgomery, Office of Chief Counsel (TCC), (202) 366-1017, via email at mark.montgomery@dot.gov, Federal Transit Administration, 1200 New Jersey Avenue SE, Washington, DC 20590. Office hours for FTA are from 8:00 a.m. to 5:00 p.m., et., Monday through Friday, except Federal holidays.

For FHWA related questions, please contact Kenneth Petty, Office of Planning (HEPP), (202) 366-6654, or via email at kenneth.petty@dot.gov, or Michael Harkins, Office of Chief Counsel (HCC), 202-366-1523, via email at michael.harkins@dot.gov, Federal Highway Administration, 1200 New Jersey Avenue SE, Washington, DC 20590. Office hours for FHWA are from 8:00 a.m. to 4:30 p.m., et., Monday through Friday, except Federal holidays.

SUPPLEMENTARY INFORMATION: The Census Bureau's urban-rural classification is a delineation of geographical areas, identifying individual urban areas as well as the rural portion of the Nation. The resulting classification of “urban areas” is distinguishable from FHWA and FTA's definition of “urbanized areas,” but the population data from the decennial census informs which geographical areas meet the definition of “urbanized area” for transportation planning purposes under Titles 23 and 49 of the United States Code (23 U.S.C. 101(a)(36) and 49 U.S.C. 5302(24)).

The Census Bureau defined the qualifying urban areas from the 2020 Census using the criteria published in the Federal Register on March 24, 2022 (87 FR 16706). As a result of these criteria and a decade of population and land use change, there are significant differences in the UZAs based on the 2020 Census from those based on the 2010 Census, including place names, boundary shapes, and population counts. Notably, 192 UZAs have populations over 200,000, the statutory threshold for TMA designation, including 15 UZAs that were not identified in the Federal Register on July 18, 2012 (77 FR 42354). Furthermore, 2 UZAs that were previously above 200,000 are now below the threshold (i.e., Norwich-New London, Connecticut, and Visalia, California).

Titles 23 and 49 of the United States Code (U.S.C.) (23 U.S.C. 134(k)(1)(A) and 49 U.S.C. 5303(k)(1)(A)) require the Secretary of Transportation to identify each UZA over 200,000 in population as a TMA. The UZAs that meet this threshold, as determined by the 2020 Census, are listed in the table below and are hereby identified as TMAs. For the multistate UZAs over 200,000 in population, the UZA is listed under the State with the largest share of the population; however, the TMA designation applies to the entire multistate area.

The TMAs are subject to special transportation planning and programming requirements. These requirements apply to the metropolitan planning areas that must be determined jointly by the metropolitan planning organization (MPO) and Governor, in accordance with 23 U.S.C. 134(e) and 49 U.S.C. 5303(e). The FTA and FHWA have developed a series of “Questions and Answers” related to applying 2020 Census data to urban areas and UZAs in the joint FTA and FHWA planning processes. More information can be found at: https://www.fhwa.dot.gov/planning/census_issues/urbanized_areas_and_mpo_tma/ and https://www.transit.dot.gov/census.

Additional UZAs may be designated as TMAs by the Secretary of Transportation upon request of the Governor and the MPO or affected local officials. Notification of any additional TMAs will be issued through a Secretarial Memorandum to the appropriate State Governors and MPOs, not as a notice published in the Federal Register.

For example, the Governor of Texas and the Permian Basin MPO (formerly the Midland Odessa Transportation Organization) requested TMA designations in 2012 for the Midland, Texas, and the Odessa, Texas, UZAs. On July 31, 2012, the Secretary of Transportation approved the request and designated both UZAs as TMAs. Although the Midland, Texas, and Odessa, Texas, UZAs do not meet the statutory population threshold for TMA designation under the 2020 Census, FHWA and FTA continue to recognize the Midland, Texas and Odessa, Texas UZAs as TMAs due to the Secretary's prior action.

In addition, the bi-State Lake Tahoe MPO region shall be treated as a TMA with a UZA population of 145,000 in the State of California and 65,000 in the State of Nevada, per 23 U.S.C. 134(r).

Authority: 23 U.S.C. 315, 23 U.S.C. 134(k)(1)(A), 49 U.S.C. 5303(k)(1)(A), 49 CFR 1.85(c)(19), and 49 CFR 1.91(a).

Shailen P. Bhatt,
Administrator, FHWA.
Nuria Fernandez,
Administrator, FTA.

State/urbanized area (UZA) | UZA 2020 population | Area comparison to 2010 census TMAs; population
Alabama:
Birmingham, AL | 774,956
Huntsville, AL | 329,066
Mobile, AL | 321,907
Montgomery, AL | 254,348
State Total | 1,680,277
Alaska:
Anchorage, AK | 249,252
State Total | 249,252
Arizona:
Phoenix—Mesa—Scottsdale, AZ | 3,976,313 | Name Change.
Tucson, AZ | 875,441
Phoenix West—Goodyear—Avondale, AZ | 419,946 | New TMA.
State Total | 5,271,700
Arkansas:
Little Rock, AR | 461,864
Fayetteville-Springdale—Rogers, AR-MO | 373,687
State Total | 835,551
California:
Los Angeles—Long Beach-Anaheim, CA | 12,237,376
San Francisco—Oakland, CA | 3,515,933
San Diego, CA | 3,070,300
Riverside—San Bernardino, CA | 2,276,703
Sacramento, CA | 1,946,618
San Jose, CA | 1,837,446
Fresno, CA | 717,589
Mission Viejo—Lake Forest—Laguna Niguel, CA | 646,843 | Name Change.
Bakersfield, CA | 570,235
Concord—Walnut Creek, CA | 538,583 | Name Change.
Temecula—Murrieta—Menifee, CA | 528,991 | Name Change.
Stockton, CA | 414,847
Oxnard—San Buenaventura (Ventura), CA | 376,117 | Name Change.
Indio—Palm Desert—Palm Springs, CA | 361,075 | Name Change.
Palmdale—Lancaster, CA | 359,559 | Name Change.
Modesto, CA | 357,301
Victorville—Hesperia—Apple Valley, CA | 355,816 | Name Change.
Antioch, CA | 326,205
Santa Rosa, CA | 297,329
Santa Clarita, CA | 278,031
Livermore—Pleasanton—Dublin, CA | 240,381 | New TMA.
Thousand Oaks, CA | 213,986
Santa Barbara, CA | 202,197 | New TMA.
State Total | 31,669,461
Colorado:
Denver—Aurora, CO | 2,686,147
Colorado Springs, CO | 632,494
Fort Collins, CO | 326,332
State Total | 3,644,973
Connecticut:
Hartford, CT | 977,158
Bridgeport—Stamford, CT-NY | 916,408
New Haven, CT | 561,456
State Total | 2,455,022
Delaware: | N/A
State Total
District of Columbia:
Washington—Arlington, DC-VA-MD | 5,174,759 | Name Change.
State Total | 5,174,759
Florida:
Miami—Fort Lauderdale, FL | 6,077,522 | Name Change.
Tampa—St. Petersburg, FL | 2,783,045
Orlando, FL | 1,853,896
Jacksonville, FL | 1,247,374
Bradenton—Sarasota—Venice, FL | 779,075 | Name Change.
Cape Coral, FL | 599,242
Palm Bay—Melbourne, FL | 510,675
Port St. Lucie, FL | 437,745
Bonita Springs—Estero, FL | 425,675 | Name Change.
Kissimmee—St. Cloud, FL | 418,404 | Name Change.
Daytona Beach—Palm Coast—Port Orange, FL | 402,126 | Name Change.
Pensacola, FL—AL | 390,172
Lakeland, FL | 277,915
Winter Haven, FL | 253,251
Tallahassee, FL | 252,934
Navarre—Miramar Beach—Destin, FL | 226,213 | New TMA.
Gainesville, FL | 213,748 | New TMA.
Deltona, FL | 210,712 | New TMA.
State Total | 17,359,724
Georgia:
Atlanta, GA | 4,999,259
Augusta—Richmond County, GA-SC | 431,480
Savannah, GA | 309,466
Columbus, GA-AL | 267,746
Gainesville, GA | 265,218 | New TMA.
State Total | 6,273,169
Hawaii:
Honolulu, HI | 853,252 | Name Change.
State Total | 853,252
Idaho:
Boise City, ID | 433,180
State Total | 433,180
Illinois:
Chicago, IL-IN | 8,671,746
Rockford, IL | 276,443
Round Lake Beach—McHenry—Grayslake, IL-WI | 261,835
Peoria, IL | 259,781
State Total | 9,469,805
Indiana:
Indianapolis, IN | 1,699,881
Fort Wayne, IN | 335,934
South Bend, IN-MI | 278,921
Evansville, IN | 206,855 | Name Change.
State Total | 2,521,591
Iowa:
Des Moines, IA | 542,486
Davenport, IA-IL | 285,211
State Total | 827,697
Kansas:
Wichita, KS | 500,231
State Total | 500,231
Kentucky:
Louisville/Jefferson County, KY-IN | 974,397
Lexington-Fayette, KY | 315,631
State Total | 1,290,028
Louisiana:
New Orleans, LA | 914,531
Baton Rouge, LA | 631,326
Shreveport, LA | 288,052
Lafayette, LA | 227,316
State Total | 2,061,225
Maine:
Portland, ME | 205,356
State Total | 205,356
Maryland:
Baltimore, MD | 2,212,038
Bel Air—Aberdeen, MD | 214,647 | Name Change.
State Total | 2,426,685
Massachusetts:
Boston, MA-NH | 4,382,009 | Name Change.
Worcester, MA-CT | 482,085
Springfield, MA-CT | 442,145
Barnstable Town, MA | 303,269
State Total | 5,609,508
Michigan:
Detroit, MI | 3,776,890
Grand Rapids, MI | 605,666
Lansing, MI | 318,300
Ann Arbor, MI | 317,689
Flint, MI | 298,964
Kalamazoo, MI | 204,562
State Total | 5,522,071
Minnesota:
Minneapolis—St. Paul, MN | 2,914,866 | Name Change.
State Total | 2,914,866
Mississippi:
Jackson, MS | 347,693
Gulfport—Biloxi, MS | 236,344 | Name Change.
State Total | 584,037
Missouri:
St. Louis, MO-IL | 2,156,323
Kansas City, MO-KS | 1,674,218
Springfield, MO | 282,651
State Total | 4,113,192
Montana: | N/A
State Total
Nebraska:
Omaha, NE-IA | 819,508
Lincoln, NE | 291,217
State Total | 1,110,725
Nevada:
Las Vegas—Henderson—Paradise, NV | 2,196,623 | Name Change.
Reno, NV-CA | 446,529
State Total | 2,643,152
New Hampshire:
Nashua, NH-MA | 242,984
State Total | 242,984
New Jersey:
Trenton, NJ | 370,422
Atlantic City—Ocean City—Villas, NJ | 294,921 | Name Change.
State Total | 665,343
New Mexico:
Albuquerque, NM | 769,837
State Total | 769,837
New York:
New York—Jersey City—Newark, NY-NJ | 19,426,449 | Name Change.
Buffalo, NY | 948,864
Rochester, NY | 704,327
Albany—Schenectady, NY | 593,142
Syracuse, NY | 413,660
Poughkeepsie—Newburgh, NY | 314,766 | Name Change.
State Total | 22,401,208
North Carolina:
Charlotte, NC-SC | 1,379,873
Raleigh, NC | 1,106,646
Winston-Salem, NC | 420,924
Durham, NC | 396,118
Greensboro, NC | 338,928
Fayetteville, NC | 325,008
Asheville, NC | 285,776
Concord, NC | 278,612
Wilmington, NC | 255,329
Hickory, NC | 201,511
State Total | 4,988,725
North Dakota:
Fargo, ND-MN | 216,214 | New TMA.
State Total | 216,214
Ohio:
Cleveland, OH | 1,712,178
Cincinnati, OH-KY | 1,686,744 | Name Change.
Columbus, OH | 1,567,254
Dayton, OH | 674,046
Akron, OH | 541,879
Toledo, OH-MI | 497,952
Youngstown, OH | 320,901 | Name Change.
Canton, OH | 295,319
State Total | 7,296,273
Oklahoma:
Oklahoma City, OK | 982,276
Tulsa, OK | 722,810
State Total | 1,705,086
Oregon:
Portland, OR-WA | 2,104,238
Eugene, OR | 270,179
Salem, OR | 268,331
State Total | 2,642,748
Pennsylvania:
Philadelphia, PA-NJ-DE-MD | 5,696,125
Pittsburgh, PA | 1,745,039
Allentown—Bethlehem, PA-NJ | 621,703 | Name Change.
Harrisburg, PA | 490,859
Lancaster—Manheim, PA | 394,530 | Name Change.
Scranton, PA | 366,713
Reading, PA | 276,278
York, PA | 238,549
State Total | 9,829,796
Puerto Rico:
San Juan, PR | 1,844,410
Aguadilla—Isabela—San Sebastian, PR | 232,573
State Total | 2,076,983
Rhode Island:
Providence, RI-MA | 1,285,806
State Total | 1,285,806
South Carolina:
Charleston, SC | 684,773 | Name Change.
Columbia, SC | 590,407
Greenville, SC | 387,271
Myrtle Beach—North Myrtle Beach, SC-NC | 298,954 | Name Change.
Rock Hill, SC | 218,443 | New TMA.
State Total | 2,179,848
South Dakota: | N/A
State Total
Tennessee:
Nashville-Davidson, TN | 1,158,642
Memphis, TN-MS-AR | 1,056,190
Knoxville, TN | 597,257
Chattanooga, TN-GA | 398,569
Clarksville, TN-KY | 200,947 | New TMA.
State Total | 3,411,605
Texas:
Houston, TX | 5,853,575
Dallas—Fort Worth—Arlington, TX | 5,732,354
San Antonio, TX | 1,992,689
Austin, TX | 1,809,888
El Paso, TX-NM | 854,584
McAllen, TX | 779,553
McKinney—Frisco, TX | 504,803 | New TMA.
Denton—Lewisville, TX | 429,461
The Woodlands—Conroe, TX | 402,454 | Name Change.
Corpus Christi, TX | 339,066
Lubbock, TX | 272,280
Killeen, TX | 257,222
Laredo, TX | 251,462
Brownsville, TX | 216,444
College Station—Bryan, TX | 206,137 | New TMA.
Amarillo, TX | 205,860 | New TMA.
State Total | 20,107,832
Utah:
Salt Lake City, UT | 1,178,533 | Name Change.
Ogden—Layton, UT | 608,857
Provo—Orem, UT | 588,609
State Total | 2,375,999
Vermont: | N/A
State Total
Virginia:
Virginia Beach—Norfolk, VA | 1,451,578 | Name Change.
Richmond, VA | 1,059,150
Roanoke, VA | 217,312
State Total | 2,728,040
Washington:
Seattle—Tacoma, WA | 3,544,011 | Name Change.
Spokane, WA | 447,279
Kennewick—Richland—Pasco, WA | 255,401 | Name Change.
Bremerton, WA | 224,449 | New TMA.
Olympia—Lacey, WA | 208,157
State Total | 4,679,297
West Virginia:
Huntington, WV-KY-OH | 200,157
State Total | 200,157
Wisconsin:
Milwaukee, WI | 1,306,795
Madison, WI | 450,305
Appleton, WI | 230,967
Green Bay, WI | 224,156
State Total | 2,212,223
Wyoming: | N/A
State Total

[FR Doc. 2023-11810 Filed 6-2-23; 8:45 am]

BILLING CODE 4910-22-P